DEPARTMENT OF HEALTH AND HUMAN SERVICES

National Institutes of Health

National Heart, Lung, and Blood Institute; Notice of Meeting

Pursuant to section 1009 of the Federal Advisory Committee Act, as amended, notice is hereby given of a meeting of the Sleep Disorders Research Advisory Board.

The meeting will be held as a virtual meeting and is open to the public as indicated below. Individuals attending who need special assistance or other reasonable accommodations to view the meeting, should notify the Contact Person listed below in advance of the meeting. The meeting will be videocast and can be accessed at: https://nih.zoomgov.com/webinar/register/WN_3LaHaBeSToq8W6oLhyl1MQ.

Name of Committee: Sleep Disorders Research Advisory Board.

Date: December 7, 2023.

Time: 10:00 a.m. to 4:00 p.m.

Agenda: The purpose of this meeting is to update the Advisory Board and public stakeholders on the research agenda across NIH for the upcoming fiscal year, and the activities of professional societies.

Place: National Institutes of Health, Rockledge Centre II, 6705 Rockledge Drive, Bethesda, MD 20892 (Virtual Meeting).

The event is free and open to the public; however, registration is required. Please use this link to register: https://nih.zoomgov.com/webinar/register/WN_3LaHaBeSToq8W6oLhyl1MQ.

Contact Person: Marishka Brown, Ph.D., SDRAB Executive Secretary, Director, National Center on Sleep Disorders Research, National Institutes of Health, National Heart, Lung, and Blood Institute, 6705 Rockledge Dr., Bethesda, MD 20814-7952, 301.435.0199, ncsdr@nih.gov.

Any member of the public interested in presenting oral comments to the committee may notify the Contact Person listed on this notice at least 5 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person. Information is also available on the Institute's/Center's home page: https://www.nhlbi.nih.gov/about/advisory-and-peer-review-committees/sleep-disorders-research, where an agenda and any additional information for the meeting will be posted when available.

Information is also available on the Institute's/Center's home page: https://www.nhlbi.nih.gov/about/advisory-and-peer-review-committees/sleep-disorders-research where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Melanie J. Pantoja,
Program Analyst, Office of Federal Advisory Committee Policy.

[FR Doc. 2023-21315 Filed 9-28-23; 8:45 am]

BILLING CODE 4140-01-P